DEPARTMENT OF TRANSPORTATION

Federal Aviation Administration

14 CFR Part 39

[Docket No. FAA-2018-0802; Product Identifier 2018-NM-082-AD]

RIN 2120-AA64

Airworthiness Directives; Fokker Services B.V. Airplanes

AGENCY: Federal Aviation Administration (FAA), DOT.

ACTION: Notice of proposed rulemaking (NPRM).

SUMMARY: We propose to adopt a new airworthiness directive (AD) for all Fokker Services B.V. Model F28 Mark 0070 and 0100 airplanes. This proposed AD was prompted by reports of electrical arcing between the auxiliary power unit (APU) starter motor positive terminal and the APU fuel drain line. This proposed AD would require the removal of certain clamps and replacement of the flexible APU fuel drain line. We are proposing this AD to address the unsafe condition on these products.

DATES: We must receive comments on this proposed AD by November 13, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Fokker Services B.V., Technical Services Dept., P.O. Box 1357, 2130 EL Hoofddorp, the Netherlands; telephone +31 (0)88-6280-350; fax +31 (0)88-6280-111; email technicalservices@fokker.com; internet http://www.myfokkerfleet.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0802; or in person at Docket Operations between 9 a.m. and 5 p.m., Monday through Friday, except Federal holidays. The AD docket contains this NPRM, the regulatory evaluation, any comments received, and other information. The street address for Docket Operations (phone: 800-647-5527) is in the ADDRESSES section. Comments will be available in the AD docket shortly after receipt.

FOR FURTHER INFORMATION CONTACT: Tom Rodriguez, Aerospace Engineer, International Section, Transport Standards Branch, FAA, 2200 South 216th St., Des Moines, WA 98198; telephone and fax 206-231-3226.

SUPPLEMENTARY INFORMATION:

Comments Invited

We invite you to send any written relevant data, views, or arguments about this proposal. Send your comments to an address listed under the ADDRESSES section. Include “Docket No. FAA-2018-0802; Product Identifier 2018-NM-082-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

The European Aviation Safety Agency (EASA), which is the Technical Agent for the Member States of the European Union, has issued EASA Airworthiness Directive 2017-0008, dated January 16, 2017 (referred to after this as the Mandatory Continuing Airworthiness Information, or “the MCAI”), to correct an unsafe condition for all Fokker Services B.V. Model F28 Mark 0070 and 0100 airplanes. The MCAI states:

Reports were received of electrical arcing between the auxiliary power unit (APU) starter motor positive terminal and the APU fuel drain line. Investigation showed that these events were due to contact between the metal braiding on the APU fuel drain line and the positive terminal of the APU starter motor.

This condition, if not corrected, could lead to a fire during APU start, possibly resulting in damage to the aeroplane.

In response to these findings, Fokker issued Service Bulletin (SB) SBF100-49-023, later amended by SB Change Notification (SBCN), with instructions to install two additional clamps on the APU fuel supply line and the flexible APU fuel drain line. Consequently, CAA-NL [Civil Aviation Authority—the Netherlands] issued the Netherlands AD 92-139 [which corresponds to FAA AD 95-21-20, Amendment 39-9407 (60 FR 53857, October 18, 1995) (“AD 95-21-20”)] to require the actions described in Fokker SBF100-49-023.

Since that [the Netherlands] AD was issued, following reports of arcing and chafing damage to the APU fuel drain line, the investigation revealed that the two additional clamps and the instructions in SBF100-49-023 would not meet the intent of ensuring sufficient clearance between the APU fuel drain line and the positive terminal of the APU starter motor.

To address this potential unsafe condition, Fokker Services [B.V.] published SBF100-49-037 to introduce a new flexible APU fuel drain line that is one inch shorter and has one elbow flange, thus enabling to restore sufficient clearance with the positive terminal of the APU starter motor.

For the reasons described above, this AD supersedes CAA-NL [the Netherlands] AD 92-139 and requires replacement of the flexible APU fuel drain line, removal of the additional clamps introduced by SBF100-49-023, and a check to verify sufficient clearance between the APU fuel drain line and the positive terminal of the APU starter motor.

You may examine the MCAI in the AD docket on the internet at http://www.regulations.gov by searching for and locating Docket No. FAA-2018-0802.

Relationship Between Proposed AD and AD 95-21-20

This NPRM would not propose to supersede AD 95-21-20. Rather, we have determined that a stand-alone AD would be more appropriate to address the changes in the MCAI. This NPRM would require the removal of certain clamps and replacement of the flexible APU fuel drain line. Accomplishment of the proposed actions would then terminate all requirements of AD 95-21-20.

Related Service Information Under 1 CFR Part 51

Fokker Services B.V. has issued Fokker Service Bulletin SBF100-49-037, dated October 31, 2016. This service information describes procedures for removing certain clamps and replacing the flexible APU fuel drain line (which includes making sure there is sufficient clearance between the new APU fuel drain line and the positive terminal of the APU starter motor and that the earth lead is not chafing against the fuel supply or the fuel drain line). This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would require accomplishing the actions specified in the service information described previously.

Costs of Compliance

We estimate that this proposed AD affects 5 airplanes of U.S. registry. We estimate the following costs to comply with this proposed AD:

Estimated Costs
Labor cost | Parts cost | Cost per product | Cost on U.S. operators
1 work-hour × $85 per hour = $85 | $963 | $1,048 | $5,240

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fokker Services B.V.: Docket No. FAA-2018-0802; Product Identifier 2018-NM-082-AD.

(a) Comments Due Date

We must receive comments by November 13, 2018.

(b) Affected ADs

This AD affects AD 95-21-20, Amendment 39-9407 (60 FR 53857, October 18, 1995) (“AD 95-21-20”).

(c) Applicability

This AD applies to Fokker Services B.V. Model F28 Mark 0070 and 0100, certificated in any category, all serial numbers.

(d) Subject

Air Transport Association (ATA) of America Code 49, Airborne auxiliary power.

(e) Reason

This AD was prompted by reports of electrical arcing between the auxiliary power unit (APU) starter motor positive terminal and the APU fuel drain line. We are issuing this AD to address this unsafe condition, which could lead to a fire during APU start and possibly result in damage to the airplane.

(f) Compliance

Comply with this AD within the compliance times specified, unless already done.

(g) Modification

Within 12 months after the effective date of this AD: Remove the two additional clamps, part number (P/N) MS21919WCH5 and P/N MS21919WCH13, and replace APU fuel drain line P/N D67066-409 with a new APU fuel drain line P/N W67066-401, in accordance with the Accomplishment Instructions of Fokker Service Bulletin SBF100-49-037, dated October 31, 2016.

(h) Terminating Actions for AD 95-21-20

Accomplishing the actions required by paragraph (g) of this AD terminates all requirements of AD 95-21-20.

(i) Parts Installation Prohibition

No person may install APU fuel drain line P/N D67066-409 after modification of an airplane as required by paragraph (g) of this AD.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Fokker Services B.V.'s EASA Design Organization Approval (DOA). If approved by the DOA, the approval must include the DOA-authorized signature.

(k) Related Information

(1) Refer to Mandatory Continuing Airworthiness Information (MCAI) EASA Airworthiness Directive 2017-0008, dated January 16, 2017, for related information. This MCAI may be found in the AD docket on the internet at http://www.regulations.gov by searching for and locating Docket No. FAA-2018-0802.

(2) For more information about this AD, contact Tom Rodriguez, Aerospace Engineer, International Section, Transport Standards Branch, FAA, 2200 South 216th St., Des Moines, WA 98198; telephone and fax 206-231-3226.

(3) For service information identified in this AD, contact Fokker Services B.V., Technical Services Dept., P.O. Box 1357, 2130 EL Hoofddorp, the Netherlands; telephone +31 (0)88-6280-350; fax +31 (0)88-6280-111; email technicalservices@fokker.com; internet http://www.myfokkerfleet.com. You may view this service information at the FAA, Transport Standards Branch, 2200 South 216th St., Des Moines, WA. For information on the availability of this material at the FAA, call 206-231-3195.

Issued in Des Moines, Washington, on September 14, 2018.
John P. Piccola,
Acting Director, System Oversight Division, Aircraft Certification Service.

[FR Doc. 2018-20919 Filed 9-27-18; 8:45 am]

BILLING CODE 4910-13-P